DEPARTMENT OF THE INTERIOR

Bureau of Land Management

[CA-360-01-1430-EU: CACA-43380]

Notice of Realty Action, Noncompetitive Sale of Public Lands in Siskiyou County; CA

AGENCY: Bureau of Land Management, Interior.

ACTION: Notice of segregation and sale of public land.

SUMMARY: The following public lands have been found suitable for direct sale under sections 203 and 209 of the Federal Land Policy and Management Act of 1976 (90 Stat. 2750, 43 U.S.C. 1713), at not less than the estimated fair market value of $20,000.00. The land will not be offered for sale until at least 60 days after the date of this notice.

Mount Diablo Meridian

T.47N., R.1W.,

Section 14, Lot 3.

Containing 30.14 Acres more or less.

DATES: Submit comments on or before May 12, 2003.

FOR FURTHER INFORMATION CONTACT: Howard Matzat at the Bureau of Land Management, 355 Hemsted Dr., Redding, CA 96002, phone (530) 224-2100. The land described is hereby segregated from appropriation under the public land laws, including the mining laws, pending disposition of this action or 270 days from the date of publication of this notice, whichever occurs first.

This land is being offered by direct sale for state purposes to the State of California, consistent with 43 CFR 2711.3-3(a)(1). It has been determined that the public lands contain no mineral values; therefore, mineral interests may be conveyed simultaneously. Acceptance of the direct sale offer will qualify the purchaser to make application for the conveyance of the mineral estate. The land is not needed for Federal purposes.

Conveyance is consistent with current BLM land use planning and would be in the public interest.

The patent, when issued, will be subject to the following terms, conditions and reservations:

1. A right-of-way for ditches and canals constructed by the authority of the United States.

2. Valid existing rights.

Detailed information concerning this action is available for review at the office of the Bureau of Land Management, Redding Field Office, 355 Hemsted Dr., Redding, California, 96002.

Upon publication of this notice in the Federal Register, the lands will be segregated from all other forms of appropriation under the public land laws, including the general mining laws. For a period of 45 days from the date of publication of this notice in the Federal Register, interested persons may submit written comments regarding the proposed sale to Charles M. Schultz, Field Office Manager, Redding Field Office, Bureau of Land Management, 355 Hemsted Dr., Redding, CA 96002. In the absence of timely objections, this proposal shall become the final determination of the Department of Interior.

Dated: February 7, 2003.
Duane Marti,
Acting Chief, Branch of Lands Management (CA-930).

[FR Doc. 03-7165 Filed 3-25-03; 8:45 am]

BILLING CODE 4310-40-P